ENVIRONMENTAL PROTECTION AGENCY

40 CFR Part 180

[EPA-HQ-OPP-2015-0032; FRL-9931-74]

Receipt of Several Pesticide Petitions Filed for Residues of Pesticide Chemicals in or on Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before September 25, 2015.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally is available at http://www.epa.gov/dockets.

FOR FURTHER INFORMATION CONTACT: Robert McNally, Director, Biopesticides and Pollution Prevention Division (BPPD) (7511P), main telephone number: (703) 305-7090, email address: BPPDFRNotices@epa.gov; or Susan Lewis, Director, Registration Division (RD) (7505P), main telephone number: (703) 305-7090, email address: RDFRNotices@epa.gov. The mailing address for each contact person is: Office of Pesticide Programs, Environmental Protection Agency, 1200 Pennsylvania Ave., NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make final determinations on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 4F8261. (EPA-HQ-OPP-2014-0397). BASF Corp., 26 Davis Dr., Research Triangle Park, NC 27709, requests to establish tolerances in 40 CFR 180.361 for residues of the herbicide pendimethalin in or on milk at 0.04 parts per million (ppm); cattle, fat at 0.30 ppm; cattle, liver at 1.5 ppm; cattle, meat at 0.1 ppm; cattle, meat byproducts, except liver at 3.0 ppm; goat, fat at 0.30 ppm; goat, liver at 1.5 ppm; goat, meat at 0.10 ppm; goat, meat byproducts, except liver at 3.0 ppm; horse, fat at 0.30 ppm; horse, liver at 1.5 ppm; horse, meat at 0.10 ppm; horse, meat byproducts, except liver at 3.0 ppm; sheep, fat at 0.30 ppm; sheep, liver at 1.5 ppm; sheep, meat at 0.10 ppm; and sheep, meat byproducts, except liver at 3.0 ppm. The aqueous organic solvent extraction, column clean up, and quantitation by a gas chromatography (GC) method is used to measure and evaluate pendimethalin and its metabolite. Contact: RD.

2. PP 4F8284. (EPA-HQ-OPP-2015-0443). Bayer CropScience LP, 2 T.W. Alexander Dr., Research Triangle Park, NC 27709, requests to establish tolerances in 40 CFR 180.661 for residues of the fungicide fluopyram (N-[2-[3-chloro-5-(trifluoromethyl)-2-pyridinyl]ethyl]-2-(trifluoromethyl)benzamide) in or on the raw agricultural commodities artichoke, globe at 4.0 ppm; aspirated grain fractions at 50.0 ppm; peanut hay at 40.0 ppm; hops at 60.0 ppm; root vegetables, except beet, sugar, root, crop subgroup 1B at 0.30 ppm; tuberous and corm vegetables, crop subgroup 1C at 0.10 ppm; potato wet peel at 0.30 ppm; vegetables, leaves of root and tuber, crop group 2 at 30.0 ppm; bulb vegetables, bulb onion (crop subgroup 3-07A) at 0.30 ppm; bulb vegetables, green onions (crop subgroup 3-07B) at 15.0 ppm; leafy greens (crop subgroup 4A), without spinach at 20.0 ppm; leafy greens (crop subgroup 4A) spinach at 40.0 ppm; leafy petioles subgroup, celery (crop subgroup 4B) at 20.0 ppm; brassica leafy vegetables: Head and stem (crop subgroup 5A) at 4.0 ppm; brassica leafy vegetables: Leafy greens (crop subgroup 5B) at 50.0 ppm; soybean forage at 9.0 ppm; soybean hay at 30.0 ppm; legume vegetables: Edible podded (crop subgroup 6A) at 4.0 ppm; legume vegetables: Succulent shelled peas and beans (crop subgroup 6B) at 0.20 ppm; legume vegetables: Dried shelled peas and beans (crop subgroup 6C) at 0.70 ppm; vegetable, foliage of legume vegetables, forage, hay and vines, forage (crop group 7) at 90.0 ppm; fruiting vegetables, tomato subgroup (crop subgroup 8-10A) at 1.00 ppm; fruiting vegetables, pepper/eggplant subgroup (crop subgroup 8-10B) at 3.00 ppm; cucurbit vegetables (crop group 9A), melon subgroup at 0.90 ppm; cucurbit vegetables (crop group 9B), cucumber/squash subgroup at 0.30 ppm; citrus fruits (crop group 10-10) at 0.90 ppm; citrus oil at 8.0 ppm; pome fruit (crop group 11-10) at 2.0 ppm; stone fruit (crop group 12-12A), cherry subgroup at 2.00 ppm; stone fruit (crop group 12-12B), peach subgroup at 1.00 ppm; stone fruit (crop group 12-12C), plum subgroup at 0.50 ppm; berries and small fruit: Caneberry (crop subgroup 13-07A) at 5.0 ppm; berries and small fruit: Bushberry (crop subgroup 13-07B) at 7.0 ppm; raisins at 4.0 ppm; berries and small fruit, small fruit vine climbing, except fuzzy kiwi (crop subgroup 13-07F) at 1.5 ppm; berries and small fruit: Low growing berry (crop subgroup 13-07G) at 2.0 ppm; sorghum, grain at 1.5 ppm; wheat milled by-products at 2.0 ppm; grass forage, fodder and hay: Forage (crop group 17) at 80.0 ppm; herb crop (subcrop group 19A) at 70.0 ppm; dill seed at 70.00 ppm; herbs, dried at 400 ppm; oilseeds, rapeseed, canola (crop subgroup 20A) at 0.70 ppm; oilseeds, sunflower, seed (crop subgroup 20B) at 0.70 ppm; and oilseeds: Cottonseed (crop subgroup 20C) at 0.80 ppm and in or on the animal commodities chicken, meat byproducts at 0.40 ppm; chicken, fat at 0.15 ppm; chicken, meat at 0.10 ppm; goat, fat at 4.00 ppm; and goat, meat at 4.00 ppm. Bayer CropScience LP also requests to establish a tolerance in 40 CFR 180.661 for indirect or inadvertent residues of the fungicide fluopyram (N-[2-[3-chloro-5-(trifluoromethyl)-2-pyridinyl]ethyl]-2-(trifluoromethyl)benzamide) in or on the raw agricultural commodity sugarcane, cane at 0.08 ppm. High performance liquid chromatography-electrospray ionization/tandem mass spectrometry (LC/MS/MS) is used to measure and evaluate the chemical fluopyram. Contact: RD.

3. PP5E8362. (EPA-HQ-OPP-2015-0439). Makhteshim Agan of North America, Inc., d/b/a ADAMA, 3120 Highwoods Blvd., Suite 100, Raleigh, NC 27604, requests to establish a tolerance in 40 CFR 180.427 for residues of the insecticide/miticide tau-fluvalinate in or on wine grapes at 1.0 ppm. The Pesticide Analytical Manual (PAM) Volume II lists Method I, a GC method with electron capture detection (ECD), which is used to measure and evaluate the chemical tau-fluvalinate, cyano-(3-phenoxyphenyl)methyl N-[2-chloro-4-(trifluoromethyl)phenyl]-D-valinate, in or on plant and animal commodities. The stated limits of quantitation are 0.01 ppm for plant commodities (except oil) and animal commodities and 0.02 ppm for oil. In addition, the U.S. Food and Drug Administration (FDA) multi-residue methods published in the PAM Volume I, section 302 and 303, showed an acceptable recovery (>80%) for tau-fluvalinate. Contact: RD.

4. PP 5E8363. (EPA-HQ-OPP-2015-0390). Interregional Research Project Number 4 (IR-4), Rutgers University, 500 College Rd. East, Suite 201 W, Princeton, NJ 08540, requests to establish tolerances in 40 CFR 180.494 for residues of the insecticide pyridaben [2-tert-butyl-5-(4-tert-butylbenzylthio)-4-chloropyridazin-3(2H)-one] in or on cucumber at 0.5 ppm; berry, low growing, subgroup 13-07G, except cranberry at 2.5 ppm; fruit, citrus, group 10-10 at 0.5 ppm; fruit, pome, group 11-10 at 0.75 ppm; fruit, small, vine climbing, subgroup 13-07F, except fuzzy kiwifruit at 1.5 ppm; fruit, stone, group 12-12 at 2.5 ppm; and nut, tree, group 14-12 at 0.05 ppm. The proposed analytical methodology for enforcement involves extraction, partition, clean up, and detection of pyridaben residues by gas chromatography/electron capture detector (GC/ECD). The limit of quantitation (LOQ) of pyridaben by the method is 0.01192 ppm, which will allow monitoring of food residues at the level proposed for the tolerances. Contact: RD.

5. PP 5E8371. (EPA-HQ-OPP-2013-0235). IR-4, Rutgers University, 500 College Rd. East, Suite 201 W, Princeton, NJ 08540, requests to establish tolerances in 40 CFR 180.628 for residues of the insecticide chlorantraniliprole, 3-bromo-N-[4-chloro-2-methyl-6-[(methylamino)-carbonyl]phenyl]-1-(3-chloro-2-pyridinyl)-1H-pyrazole-5-carboxamide, in or on the following raw agricultural commodities: Nut, tree, group 14-12 at 0.02 ppm and fruit, stone, group 12-12 at 2.5 ppm. In requesting these tolerances, IR-4 notes that the proposed tolerances represent a lowering of established, related tolerances in or on fruit, stone, group 12-12, except cherry, chickasaw plum, and damson plum at 4.0 ppm and nut, tree, group 14 at 0.04 ppm. Analytical methodology has been developed and validated for enforcement purposes. Contact: RD.

6. PP 5F8343. (EPA-HQ-OPP-2015-0226). Gowan Co., P.O. Box 5569, Yuma, AZ 85366, requests to establish a tolerance in 40 CFR part 180 for residues of the herbicide benzobicyclon in or on rice (grain, straw) at 0.1 ppm. The practical analytical method LC/MS is used to measure and evaluate the chemical benzobicyclon and the metabolite 1315P-070. Contact: RD.

7. PP 5F8344. (EPA-HQ-OPP-2015-0324). BASF Corp., 26 Davis Dr., Research Triangle Park, NC 27709, requests to establish tolerances in 40 CFR 180.666 for residues of the fungicide fluxapyroxad in or on citrus, dried pulp at 2.7 ppm; citrus, oil at 19 ppm; fruit, citrus, group 10-10 at 1.0 ppm; grass forage, fodder and hay, group 17 at 30 ppm; nongrass animal feeds, group 18 at 30 ppm; and poultry, fat at 0.005 ppm. Independently validated analytical methods have been submitted for analyzing residues of parent fluxapyroxad (BAS 700 F) plus metabolites M700F008, M700F048, and M700F002 with appropriate sensitivity in/on plant/crop raw agricultural commodities and processed fractions and in animal meat, fat, liver and kidney matrices, skim milk, cream, poultry meat, fat, liver, and eggs for which tolerances have been established or are being proposed. Contact: RD.

8. PP 5F8359. (EPA-HQ-OPP-2015-0405). ISK Biosciences Corp., 7470 Auburn Rd., Suite A, Concord, OH, 44077, requests to establish tolerances in 40 CFR part 180 for residues of the herbicide tolpyralate 1-[[1-Ethyl-4-[3-(2-methoxyethoxy)-2-methyl-4-(methylsulfonyl)benzoyl]-1H-pyrazol-5-yl]oxy]ethyl methyl carbonate (CAS), including its metabolite MT-2153, in or on the raw agricultural commodities of corn that include field corn, sweet corn, and popcorn at 0.01 ppm. Liquid chromatography-MS/MS is used to measure and evaluate tolpyralate and its metabolite. Contact: RD.

9. PP 5F8367. (EPA-HQ-OPP-2015-0412). Lewis and Harrison, LLC, 122 C St., NW., Suite 505, Washington, DC 20001 (on behalf of Nissan Chemical Industries, Ltd., 7-1, 3-chome, Kanda-Nishiki-cho, Chiyoda-ku, Tokyo 101-0054, Japan), requests to establish tolerances in 40 CFR 180.441 for residues of the herbicide quizalofop-p-ethyl in or on crayfish at 0.04 ppm and rice, grain at 0.05 ppm. A modified Morse Method Meth-147 using reverse HPLC with fluorescence detection is used to measure and evaluate the chemical quizalofop-p-ethyl, convertible to 2-methoxy-6-chloroquinoxaline (MeCHQ). Contact: RD.

Amended Tolerances

1. PP 4F8261. (EPA-HQ-OPP-2014-0397). BASF Corp., 26 Davis Dr., Research Triangle Park, NC 27709, requests to amend the tolerances in 40 CFR 180.361 for residues of the herbicide pendimethalin in or on grass forage, fodder, and hay crop group 17, forage at 1,000 ppm and grass forage, fodder, and hay crop group 17, hay at 2,000 ppm. The aqueous organic solvent extraction, column clean up, and quantitation by a GC method is used to measure and evaluate the chemicals pendimethalin and its metabolite. Contact: RD.

2. PP 4F8284. (EPA-HQ-OPP-2015-0443). Bayer CropScience LP, 2 T.W. Alexander Dr., Research Triangle Park, NC 27709, requests to amend the tolerances in 40 CFR 180.661 for residues of the fungicide fluopyram (N-[2-[3-chloro-5-(trifluoromethyl)-2-pyridinyl]ethyl]-2-(trifluoromethyl)benzamide) in or on the raw agricultural commodities peanut at 0.20 ppm; sugar beet, roots at 0.09 ppm; soybean, seed at 0.30 ppm; soybean forage at 9.0 ppm; soybean hay at 30.0 ppm; tree nuts (crop group 14) at 0.04 ppm; almond hulls at 10.00 ppm; grain, cereal, except rice and sorghum (crop group 15) at 0.90 ppm; cereal grain, except rice, forage, fodder and straw (crop group 16) at 20.0 ppm; and cotton gin by-product at 30.00 ppm and in or on the animal commodities cattle, meat byproducts at 40.00 ppm; cattle, fat at 4.00 ppm; cattle, meat at 4.00 ppm; milk, cattle at 2.00 ppm; eggs, chicken at 0.20 ppm; hog, meat byproducts at 0.40 ppm; hog, fat at 0.04 ppm; hog, meat at 0.04 ppm; horse, meat byproducts at 40.00 ppm; horse, fat at 4.00 ppm; horse, meat at 4.00 ppm; goat, meat byproducts at 40.00 ppm; sheep, meat byproducts at 40.00 ppm; sheep, fat at 4.00 ppm; and sheep, meat at 4.00 ppm. Bayer CropScience LP also requests to delete tolerances in 40 CFR 180.661 for residues of the fungicide fluopyram (N-[2-[3-chloro-5-(trifluoromethyl)-2-pyridinyl]ethyl]-2-(trifluoromethyl)benzamide) in or on the raw agricultural commodities apple at 0.30 ppm; bean, dry at 0.09 ppm; beet, sugar, roots at 0.04 ppm; apple wet pomace at 0.60 ppm; cherry at 0.60 ppm; grape, wine at 2.0 ppm; potato at 0.02 ppm; strawberry at 1.5 ppm; and watermelon at 1.0 ppm. High performance liquid chromatography-electrospray ionization/tandem mass spectrometry (LC/MS/MS) is used to measure and evaluate the chemical fluopyram. Contact: RD.

3. PP 5E8363. (EPA-HQ-OPP-2015-0390). IR-4, Rutgers University, 500 College Rd. East, Suite 201 W, Princeton, NJ 08540, requests to remove existing tolerances in 40 CFR 180.494 for residues of the insecticide pyridaben [2-tert-butyl-5-(4-tert-butylbenzylthio)-4-chloropyridazin-3(2H)-one] in or on apple at 0.5 ppm; pear at 0.75 ppm; nut, tree, group 14 at 0.05 ppm; citrus (fruit) at 0.5 ppm; fruit, stone, group 12 at 2.5 ppm; pistachio at 0.05 ppm; grape at 1.5 ppm; and strawberry at 2.5 ppm upon approval of tolerances listed under New Tolerances, Unit II., Number 4, PP 5E8363 as they would be redundant. The proposed analytical methodology for enforcement is gas chromatography/electron capture detector (GC/ECD). The limit of quantitation (LOQ) of pyridaben by the method is 0.01192 ppm, which will allow monitoring of food residues at the level proposed for the tolerances. Contact: RD.

4. PP 5E8371. (EPA-HQ-OPP-2013-0235). IR-4, Rutgers University, 500 College Rd. East, Suite 201 W, Princeton, NJ 08540, requests to amend the existing tolerances in 40 CFR 180.628 for residues of the insecticide chlorantraniliprole, 3-bromo-N-[4-chloro-2-methyl-6-[(methylamino)-carbonyl]phenyl]-1-(3-chloro-2-pyridinyl)-1H-pyrazole-5-carboxamide, in or on the following raw agricultural commodities: Artichoke, globe from 4.0 ppm to 2.0 ppm; and hop, dried cones from 90 ppm to 40 ppm. In requesting these tolerances, IR-4 notes that the proposed amended tolerances for hop, dried cones; and artichoke, globe represent a lowering of established tolerances. Upon establishment of the tolerances associated with PP 5E8371, IR-4 requests to remove the following existing tolerances in 40 CFR 180.628: Nut, tree, group 14 at 0.04 ppm; pistachio at 0.04 ppm; fruit, stone, group 12-12, except cherry, chickasaw plum, and damson plum at 4.0 ppm; cherry, sweet at 2.0 ppm; cherry, tart at 2.0 ppm; plum, chickasaw at 2.0 ppm; and plum, damson at 2.0 ppm. Analytical methodology has been developed and validated for enforcement purposes. Contact: RD.

5. PP 5F8344. (EPA-HQ-OPP-2015-0324). BASF Corp., 26 Davis Dr., Research Triangle Park, NC 27709, requests to amend the tolerances in 40 CFR 180.666 for residues of the fungicide fluxapyroxad (BAS 700 F) in or on egg from 0.002 ppm to 0.01 ppm and to delete the established tolerance for inadvertent residues for nongrass animal feeds, group 18 at 0.3 ppm. Independently validated analytical methods have been submitted for analyzing residues of parent fluxapyroxad (BAS 700 F) plus metabolites M700F008, M700F048, and M700F002 with appropriate sensitivity in/on plant/crop raw agricultural commodities and processed fractions and in animal meat, fat, liver and kidney matrices, skim milk, cream, poultry meat, fat, liver, and eggs for which tolerances have been established or are being proposed. Contact: RD.

New Tolerance Exemptions

1. PP 4F8280. (EPA-HQ-OPP-2015-0457). Spring Trading Co., 10805 W. Timberwagon Cir., Spring, TX 77380-4030 (on behalf of CH Biotech R&D Co. LTD, No. 121, Xian an Rd., Xianxi Township, Changhua County 507, Taiwan (R.O.C.) 50741), requests to establish an exemption from the requirement of a tolerance in 40 CFR part 180 for residues of the plant growth regulator betaine in or on all food commodities. The petitioner believes no analytical method is needed because betaine is used as an additive in baby formula as a food supplement and because there was no increased susceptibility demonstrated in the developmental toxicity and reproduction studies. Contact: BPPD.

2. PP 4F8317. (EPA-HQ-OPP-2015-0420). LidoChem, Inc., 20 Village Ct., Hazlet, NJ 07730, requests to establish an exemption from the requirement of a tolerance in 40 CFR part 180 for residues of the fungicide, nematocide, and plant growth regulator Bacillus amyloliquefaciens strain PTA-4838 in or on all food commodities. The petitioner believes no analytical method is needed because it is petitioning for a tolerance exemption. Contact: BPPD.

3. PP IN-10786. (EPA-HQ-OPP-2015-0373). Dow AgroSciences LLC, 9330 Zionsville Rd., Indianapolis, IN 46268, requests to establish an exemption from the requirement of a tolerance for residues of propanoic acid, 2-methyl-, monoester with 2,2,4-trimethyl-l,3-pentanediol (CAS Reg. No. 25265-77-4) when used as an inert ingredient (solvent, cosolvent) in pesticide formulations applied to growing crops and raw agricultural commodities after harvest under 40 CFR 180.910. The petitioner believes no analytical method is needed because it is not required for an exemption from the requirement of a tolerance. Contact: RD.

4. PP IN-10792. (EPA-HQ-OPP-2015-0249). Clariant Corp., 4000 Monroe Rd., Charlotte, NC 28205, requests to establish an exemption from the requirement of a tolerance for residues of D-Glucitol, 1-deoxy-1-(methylamino)-, N-C8-10 acyl derivs. (CAS Reg. No. 1591782-62-5) when used as an inert ingredient in pesticide formulations applied to growing crops or to raw agricultural commodities after harvest under 40 CFR 180.910. The petitioner believes no analytical method is needed because it is not required for an exemption from the requirement of a tolerance. Contact: RD.

5. PP IN-10807. (EPA-HQ-OPP-2015-0421). Lamberti USA, Inc., 161 Washington St., Suite 1000, Conshohocken, PA 19428, requests to establish an exemption from the requirement of a tolerance for residues of polymers of tamarind seed gum, 2-hydroxypropyl ether or tamarind seed gum, 2-hydroxypropyl ether polymers with a minimum number-average molecular weight (in amu) of 10,000 (CAS Reg. No. 68551-04-2) when used as an inert ingredient in pesticide formulations under 40 CFR 180.960. The petitioner believes no analytical method is needed because it is not required for an exemption from the requirement of a tolerance. Contact: RD.

6. PP IN-10814. (EPA-HQ-OPP-2015-0376). BASF Corp., 100 Park Ave., Florham Park, NJ 07932, requests to establish an exemption from the requirement of a tolerance for residues of 2-propenoic acid, polymer with ethenylbenzene and (1-methylethenyl)benzene with a minimum number-average molecular weight (in amu) of 2,000 (CAS Reg. No. 52831-04-6) when used as an inert ingredient in pesticide formulations under 40 CFR 180.960. The petitioner believes no analytical method is needed because it is not required for an exemption from the requirement of a tolerance. Contact: RD.

7. PP IN-10821. (EPA-HQ-OPP-2015-0482). Lamberti USA, Inc., 161 Washington St., Suite 1000, Conshohocken, PA 19428, requests to establish an exemption from the requirement of a tolerance for residues of cellulose carboxymethyl ether, potassium salt with a number-average molecular weight (in amu) from 1,000 to 10,000 (CAS Reg. No. 54848-04-3) when used as an inert ingredient in pesticide formulations under 40 CFR 180.960. The petitioner believes no analytical method is needed because it is not required for an exemption from the requirement of a tolerance. Contact: RD.

8. PP IN-10826. (EPA-HQ-OPP-2015-0442). BYK USA, Inc., 524 South Cherry St., Wallingford, CT 06492-4453, requests to establish an exemption from the requirement of a tolerance for residues of poly[oxy(methyl-1,2-ethanediyl)], α-[(9Z)-1-oxo-9-octadecen-1-yl]- ω-[[(9Z)-1-oxo-9-octadecen-1-yl]oxy] with a minimum number-average molecular weight (in amu) of 2,300 (CAS Reg. No. 26571-49-3) when used as an inert ingredient in pesticide formulations under 40 CFR 180.960. The petitioner believes no analytical method is needed because it is not required for an exemption from the requirement of a tolerance. Contact: RD.

9. PP IN-10830. (EPA-HQ-OPP-2015-0465). Spring Trading Co., 203 Dogwood Trl., Magnolia, TX 77354 (on behalf of Croda, Inc., 315 Cherry Ln., New Castle, DE 19720), requests to establish an exemption from the requirement of a tolerance for residues of polyester polyol polymers with a minimum number-average molecular weight (in amu) greater than 1,000 (CAS Reg. Nos. 68562-93-6, 943440-33-3, 1681043-28-6, 1681043-31-1, 1681043-33-3, 1685270-83-0, 1685270-84-1, 1685270-99-8, 1685271-01-5, 1685271-02-6, and 1685271-04-8) when used as inert ingredients in pesticide formulations under 40 CFR 180.960. The petitioner believes no analytical method is needed because it is not required for an exemption from the requirement of a tolerance. Contact: RD.

10. PP IN-10834. (EPA-HQ-OPP-2015-0451). Spring Trading Co., 203 Dogwood Trl., Magnolia, TX 77354 (on behalf of Croda, Inc., 315 Cherry Ln., New Castle, DE 19720), requests to establish an exemption from the requirement of a tolerance for residues of polyamide ester polymers with a minimum number-average molecular weight (in amu) greater than 1,000 (CAS Reg. Nos. 678991-29-2, 363162-42-9, 951153-32-5, 1699751-19-3, 1699751-23-9, 1699751-24-0, 1699751-25-1, 1699751-28-4, 1699751-29-5, 1699751-31-9, and 1685271-04-8) when used as inert ingredients in pesticide formulations under 40 CFR 180.960. The petitioner believes no analytical method is needed because it is not required for an exemption from the requirement of a tolerance. Contact: RD.

11. PP IN-10837. (EPA-HQ-OPP-2015-0485). Stepan Co., 22 West Frontage Rd., Northfield, IL 60093, requests to establish an exemption from the requirement of a tolerance for residues of α-[2,4,6-tris[1-(phenyl)ethyl]phenyl]- ω-hydroxy poly(oxyethylene) poly(oxypropylene) copolymer, the poly(oxypropylene) content averages 2-8 moles, the poly(oxyethylene) content averages 16-30 moles, with a minimum number-average molecular weight (in amu) of 1,500 (CAS Reg. No. 70880-56-7) when used as an inert ingredient in pesticide formulations under 40 CFR 180.960. The petitioner believes no analytical method is needed because it is not required for an exemption from the requirement of a tolerance. Contact: RD.

Amended Tolerance Exemption

1. PP 4F8266. (EPA-HQ-OPP-2014-0918). Valent BioSciences Corp., 870 Technology Way, Libertyville, IL 60048, requests to amend an exemption from the requirement of a tolerance in 40 CFR 180.1156 for residues of the fungicide, insecticide, algaecide, and nematocide cinnamaldehyde in or on all food commodities. The petitioner believes no analytical method is needed because residues of cinnamaldehyde have previously been granted an exemption from the requirement of a tolerance in the Federal Register of February 17, 1999 (64 FR 7804) (FRL-6049-9) (corrected in the Federal Register of March 24, 1999 (64 FR 14099) (FRL-6069-2)). Contact: BPPD.

Authority: 21 U.S.C. 346a.

Dated: August 11, 2015.
R. McNally,
Director, Biopesticides and Pollution Prevention Division, Office of Pesticide Programs.

[FR Doc. 2015-21188 Filed 8-25-15; 8:45 am]

BILLING CODE 6560-50-P